DEPARTMENT OF COMMERCE

National Oceanic and Atmospheric Administration

RIN 0648-XE821

Western Pacific Fishery Management Council; Public Meetings

AGENCY: National Marine Fisheries Service (NMFS), National Oceanic and Atmospheric Administration (NOAA), Commerce.

ACTION: Notice of public meetings and hearings.

SUMMARY: The Western Pacific Fishery Management Council (Council) will hold a meeting of its Social Science Planning Committee (SSPC) to discuss and make recommendations on relevant issues in Hawaii and the Western Pacific region.

DATES: The SSPC meeting will be held on Thursday, September 15, 2016, from 1 p.m. and 5 p.m., Hawaii Standard Time. For agenda, see SUPPLEMENTARY INFORMATION.

ADDRESSES: The SSPC meeting will be held at the Council office, 1164 Bishop St., Honolulu, HI 96813; phone: (808) 522-8220 and by teleconference line at (888) 482-3560; Passcode: 5228220.

FOR FURTHER INFORMATION CONTACT: Kitty M. Simonds, Executive Director, phone: (808) 522-8220.

SUPPLEMENTARY INFORMATION: A public comment period will be provided. The order in which agenda items are addressed may change. The meeting will run as late as necessary to complete scheduled business.

Agenda for the SSPC Meeting

Thursday, September 15, 2016, 1 p.m.-5 p.m.

1. Welcome and Introductions

2. Approval of Agenda

3. Welcome New Members

4. Papahanaumokuakea MNM Update

5. Status of April 2016 SSPC Recommendation

6. Status of the Annual/SAFE Reports

7. Update on Human Communities Research Needs

8. SSPC Member Research Updates

9. Identification of Social Researchers

10. Saltonstall Kennedy Grant Solicitation

11. Other Business

12. Public Comment

13. Committee Discussion and Recommendations

14. Next Meeting

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Kitty M. Simonds, (808) 522-8220 (voice) or (808) 522-8226 (fax), at least 5 days prior to the meeting date.

Authority: 16 U.S.C. 1801 et seq.

Dated: August 17, 2016.
Tracey L. Thompson,
Acting Deputy Director, Office of Sustainable Fisheries, National Marine Fisheries Service.

[FR Doc. 2016-19949 Filed 8-19-16; 8:45 am]

BILLING CODE 3510-22-P